DEPARTMENT OF TRANSPORTATION

Federal Aviation Administration

14 CFR Part 39

[Docket No. FAA-2007-28691; Directorate Identifier 2006-SW-22-AD]

RIN 2120-AA64

Airworthiness Directives; Eurocopter France Model AS355E, F, F1, F2, and N Helicopters

AGENCY: Federal Aviation Administration, DOT.

ACTION: Supplemental notice of proposed rulemaking; reopening of comment period.

SUMMARY: This document revises an earlier proposed superseding airworthiness directive (AD) for the specified Eurocopter France (ECF) model helicopters. That AD currently requires certain checks of the magnetic chip detector plug (chip detector) and the main gearbox (MGB) oil-sight glass, certain inspections of the lubrication pump (pump), and replacing the MGB and the pump with an airworthy MGB and pump, if necessary. Also, the AD requires that before a pump or MGB with any hours time-in-service (TIS) can be installed, it must meet the AD requirements. The earlier proposed superseding AD proposed retaining those requirements but proposed adding all serial-numbered pumps to the applicability. This supplemental proposal is prompted by an improved procedure for detecting oil pump wear earlier and is considered more accurate than the procedure proposed previously. The actions specified by the proposed AD are intended to implement improved procedures to detect a failing MGB oil pump, to prevent failure of the MGB pump, seizure of the MGB, loss of drive to an engine and main rotor, and subsequent loss of control of the helicopter.

DATES: Comments must be received on or before August 29, 2008.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

We invite you to submit any written data, views, or arguments regarding this proposed AD. Send your comments to the address listed under the caption ADDRESSES. Include the docket number “FAA-2007-28691, Directorate Identifier 2006-SW-22-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

A proposal to amend 14 CFR part 39 to add an AD for the specified ECF model helicopters was published in the Federal Register on July 13, 2007 (72 FR 38529). That Notice of Proposed Rulemaking (NPRM) proposed superseding AD 2003-21-09 R1, Amendment 39-14621, (71 FR 31070, June 1, 2006) by retaining the requirements in that AD and adding pumps, P/N 355A32-0700-01, 355A32-0700-02, and 355A32-0701-00, any S/N, to the applicability. That NPRM was prompted by additional cases of MGB lubrication pump deterioration and a further investigation that determined that all serial-numbered pumps might be affected. This condition, if not corrected, could result in failure of the MGB pump, seizure of the MGB, loss of drive to an engine and main rotor, and subsequent loss of control of the helicopter.

Since issuing that NPRM, the manufacturer has developed an improved procedure for monitoring the condition of the MGB lubrication pump. Eurocopter has issued an Alert Service Bulletin No. 05.00.51, dated July 9, 2007 (ASB), specifying the improved procedure. The European Aviation Safety Agency (EASA), the Technical Agent for the Member States of the European Community, has issued EASA Emergency AD No. 2007-0209E, dated August 6, 2007, in response to the ASB. Also, we received comments from one commenter to the NPRM. The commenter agrees that the improved procedure, described in the ASB, is a better way to detect MGB oil pump problems because “sludge on the chip plug can come from sources within the MGB oil system.”

The FAA agrees with the commenter that the improved procedure described in the ASB is a better way to detect MGB oil pump problems because this process reflects the progressive inefficiency as the oil pump wears as it relates to steady oil temperature and variable outside air temperature (OAT). Therefore, we are proposing to require the improved procedure for monitoring the condition of the MGB lubrication pump in lieu of checking the chip detector and oil-sight glass after an initial 25 hours TIS.

Since this change expands the scope of the originally proposed rule, the FAA has determined that it is necessary to reopen the comment period to provide additional opportunity for public comment.

We estimate that this proposed AD would affect 80 helicopters of U.S. registry, and the proposed actions would take about:

• 15 minutes to perform the procedures to check the condition of the MGB oil and chip detector plug,

• 4 work hours to remove the MGB and pump,

• 1 work hour to inspect the pump under the 10-hour, 25-hour, and 110-hour TIS procedures,

• 4 work hours to install a serviceable MGB and pump at an average labor rate of $80 per work hour, and

• $4,000 for an overhauled pump and up to $60,000 for an overhauled MGB per helicopter.

Based on these figures, we estimate the total cost impact of the proposed AD on U.S. operators to be $107,040 per year, assuming (a) one overhauled MGB and pump would be replaced on one helicopter per year, (b) all 80 helicopters would operate for 10 days undergoing 10 daily checks and 2 10-hour TIS inspections, and (c) each of the 80 helicopters operate for 260 hours per year with 20 helicopters receiving the repetitive 25-hour TIS inspection or 10.4 inspections per helicopter per year (260/25) for a total of 208 inspections (20 * 10.4) and 60 helicopters receiving the repetitive 110-hour TIS inspection or 2.36 inspections per helicopter per year (260/110) for a total of 142 inspections (60 * 2.36).

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2007-28691; Directorate Identifier 2006-SW-22-AD. Supersedes AD 2003-21-09 R1, Amendment 39-14621, Docket No. 2003-SW-10-AD.

Applicability: Model AS355E, F, F1, F2, and N helicopters, with a main gear box (MGB) lubrication pump (pump), part number (P/N) 355A32-0700-01, 355A32-0700-02, or 355A32-0701-00, any serial number (S/N), certificated in any category.

Compliance: Required as indicated.

To detect sludge on the chip detector and dark oil in the MGB, to prevent failure of the MGB pump, seizure of the MGB, loss of drive to an engine and main rotor, and subsequent loss of control of the helicopter, do the following:

(a) Before the first flight of each day and at intervals not to exceed 10 hours time-in-service (TIS), check the MGB magnetic chip detector plug (chip detector) for any sludge. Also, check for dark oil in the MGB oil-sight glass. An owner/operator (pilot) holding at least a private pilot certificate may perform this visual check and must enter compliance into the aircraft maintenance records in accordance with 14 CFR 43.11 and 91.417(a)(2)(v). “Sludge” is a deposit on the chip detector that is typically dark in color and in the form of a film or paste, as compared to metal chips or particles normally found on a chip detector. Sludge may have both metallic or nonmetallic properties, may consist of copper (pinion bearing), magnesium (pump case), and steel (pinion) from the oil pump, and a nonmetallic substance from the chemical breakdown of the oil as it interacts with the metal.

(b) Before further flight, if any sludge is found on the chip detector, remove, open, and inspect the pump.

(c) Before further flight, if the oil appears dark in color when it is observed through the MGB oil-sight glass, take an oil sample. If the oil taken in the sample is dark or dark purple, before further flight, remove, open, and inspect the pump.

Note 1: Eurocopter France Alert Service Bulletin No. 05.00.40, Revision 1, dated January 5, 2006, and Emergency ASB No. 05.00.40, Revision 2, dated December 20, 2006, pertain to the subject of this AD.

(d) Within 25 hours TIS, unless accomplished previously, after operating both engines at normal operating revolutions per minute (RPM) for at least 20 minutes to ensure the MGB oil temperature has stabilized, inspect the oil pump for wear by following the Accomplishment Instructions, paragraph 2.B.2., steps 1. through 6., of Eurocopter Alert Service Bulletin No. 05.00.51, dated July 9, 2007 (ASB). This AD does not require you to send the information to the manufacturer.

(1) Record the outside air temperature (OAT) and rotor speed (NR RPM) and plot the point at which they intersect using the graph in Figure 1 or 2 of the ASB.

(2) If the point on the graph at the intersection of the recorded OAT and the NR RPM falls within:

(i) Zone 3—Before further flight, replace the MGB and pump with an airworthy MGB and pump.

(ii) Zone 2—At intervals not to exceed 25 hours TIS, repeat the inspection procedures by following the Accomplishment Instructions, paragraph 2.B.2, steps 1 through 6, of the ASB. After being classified in “Zone 2,” you must obtain two successive inspections separated by at least 24 hours TIS that fall within Zone 1 before you can begin to inspect at intervals not to exceed 110 hours TIS by following paragraph (d)(2)(iii) of this AD for Zone 1.

Note 2: In addition to a worn oil pump, the loss of oil pressure could also be due to a clogged oil filter or cooler, a pinched hose, or an inaccurate pressure switch.

(iii) Zone 1—At intervals not to exceed 110 hours TIS, repeat the inspection procedures by following the Accomplishment Instructions, paragraph 2.B.2., steps 1 through 6, of the ASB.

(3) Compliance with paragraphs (d)(1) and (d)(2) of this AD constitutes terminating action for the checks and inspections required by paragraphs (a), (b), and (c) of this AD.

(e) To request a different method of compliance or a different compliance time for this AD, follow the procedures in 14 CFR 39.19. Contact the Manager, Safety Management Group, FAA, ATTN: Ed Cuevas, Aviation Safety Engineer, Rotorcraft Directorate, Fort Worth, Texas 76193-0111, telephone (817) 222-5355, fax (817) 222-5961.

Note 3: The subject of this AD is addressed in European Aviation Safety Agency (EASA), which is the Technical Agent for the Member States of the European Community, Emergency AD No. 2006-0378-E, dated December 21, 2006, and AD No. 2007-0209E, dated August 6, 2007.

Issued in Fort Worth, Texas, on June 19, 2008.
Judy I. Carl,
Acting Manager, Rotorcraft Directorate, Aircraft Certification Service.

[FR Doc. E8-14723 Filed 6-27-08; 8:45 am]

BILLING CODE 4910-13-P